ENVIRONMENTAL PROTECTION AGENCY

[FRL-OW-FRL-7605-4]

Notice of Availability of Draft Aquatic Life Criteria Document for Copper and Request for Scientific Views

AGENCY: Environmental Protection Agency (EPA).

ACTION: Notice of availability and request for scientific views.

SUMMARY: This notice informs the public about the availability of a draft document containing updated aquatic life criteria for copper and requests scientific views. The Clean Water Act (CWA) requires EPA to develop and publish, and, from time to time, revise criteria for water quality that accurately reflect the latest scientific knowledge. EPA's recommended water quality criteria provide guidance for States and authorized Tribes to establish water quality standards under the CWA to protect human health and aquatic life.

DATES: EPA will accept scientific views on the draft 2003 Draft Updated of Ambient Water Quality Criteria for Copper document on or before March 1, 2004.

ADDRESSES: Scientific views may be submitted electronically, by mail or through hand-delivery/courier. Follow the detailed instructions as provided in section I.C. of the SUPPLEMENTARY INFORMATION section. Electronic files may be e-mailed to: OW-Docket@epa.gov. Scientific views may be mailed to the Water Docket, Environmental Protection Agency, Mailecode: 4101T, 1200 Pennsylvania Avenue, NW., Washington, DC 20460, Attention Docket ID No. OW-2003-0079. Instructions for couriers and other hand delivery are provided in section I.C.3. The Agency will not accept facsimiles (faxes).

FOR FURTHER INFORMATION CONTACT: Cindy Roberts, Health and Ecological Criteria Division (4304T), U.S. EPA, Ariel Rios Building, 1200 Pennsylvania Ave., NW., Washington, DC 20460; (202) 566-1124; roberts.cindy@epa.gov.

SUPPLEMENTARY INFORMATION:

I. General Information

A. Interested Entities

Entities potentially interested in today's notice are those that produce, use, or regulate copper. Categories and entities interested in today's notice include.

Category | Examples of interested entities
State/Local/Tribal Government | States, Tribes and municipalities.
Industry | Mining, fabricated metal products, electric equipment.

This table is not intended to be exhaustive, but rather provides a guide for readers regarding entities likely to be interested in this notice. This table lists the types of entities that EPA is now aware could potentially be interested in this notice. Other types of entities not listed in the table could also be interested.

B. How Can I Get Copies of This Document and Other Related Information?

1. Docket. EPA has established an official public docket for this notice under Docket ID No. OW-2003-0079. The official public docket consists of the documents specifically referenced in this notice, any scientific views received, and other information related to this notice. Although a part of the official docket, the public docket does not include Confidential Business Information (CBI) or other information whose disclosure is restricted by statute. The official public docket is the collection of materials that is available for public viewing at the Water Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Water Docket is (202) 566-2426. To view these materials, we encourage you to call ahead to schedule an appointment. Every user is entitled to copy 266 pages per day before incurring a charge. The docket may charge 15 cents a page for each page over the 266-page limit plus an administrative fee of $25.00.

2. Electronic Access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view the scientific views, access the index listing of the contents of the official public docket, and to access those documents in the public docket that are available electronically. Once in the system, select “search,” then key in the appropriate docket identification number.

Certain types of information will not be placed in the EPA Dockets. Information claimed as CBI and other information whose disclosure is restricted by statute, which is not included in the official public docket will not be available for public viewing in EPA's electronic public docket. EPA's policy is that copyrighted material will not be placed in EPA's electronic public docket, but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in section I.B.1.

For public commenters, it is important to note that EPA's policy is that scientific views, whether submitted electronically or in paper, will be made available for public viewing in EPA's electronic public docket as EPA receives them and without change, unless the views contain copyrighted material, CBI, or other information whose disclosure is restricted by statute. When EPA identifies a scientific view containing copyrighted material, EPA will provide a reference to that material in the version of the view that is placed in EPA's electronic public docket. The entire printed scientific view, including the copyrighted material, will be available in the public docket.

Scientific views submitted on computer disks that are mailed or delivered to the docket will be transferred to EPA's electronic public docket. Scientific views that are mailed or delivered to the Docket will be scanned and placed in EPA's electronic public docket. Where practical, physical objects will be photographed, and the photograph will be placed in EPA's electronic public docket along with a brief description written by the docket staff.

C. How and To Whom Do I Submit My Scientific Views?

You may submit scientific views electronically, by mail, or through hand delivery/courier. To ensure proper receipt by EPA, identify the appropriate docket identification number in the subject line on the first page of your views. Please ensure that your views are submitted within the specified time period. Scientific views received after the close of the stated time period will be marked “late.” EPA is not required to consider these late submittals. If you wish to submit CBI or information that is otherwise protected by statute, please follow the instructions in section I.B.2. Do not use EPA Dockets or e-mail to submit CBI or information protected by statute.

1. Electronically. If you submit electronic scientific views as prescribed below, EPA recommends that you include your name, mailing address, and an e-mail address or other contact information in the body of your scientific views. Also include this contact information on the outside of any disk or CD-ROM you submit, and in any cover letter accompanying the disk or CD-ROM. This ensures that you can be identified as the submitter of the scientific views and allows EPA to contact you in case EPA cannot read your views due to technical difficulties or needs further information on the substance of your views. EPA's policy is that EPA will not edit your scientific views, and any identifying or contact information provided in the body of a view will be included as part of the scientific views that are placed in the official public docket, and made available in EPA's electronic public docket. If EPA cannot read your views due to technical difficulties and cannot contact you for clarification, EPA may not be able to consider your views.

i. EPA Dockets. Your use of EPA's electronic public docket to submit scientific views to EPA electronically is EPA's preferred method for receiving scientific views. Go directly to EPA Dockets at http://www.epa.gov/edocket and follow the online instructions for submitting scientific views. To access EPA's electronic public docket from the EPA Internet Home Page, select “Information Sources,” “Dockets,” and “EPA Dockets.” Once in the system, select “search,” and then key in Docket ID No. OW-2003-0079. The system is an “anonymous access” system, which means EPA will not know your identity, e-mail address, or other contact information unless you provide it in the body of your input.

ii. E-mail. Scientific views may be sent by electronic mail (e-mail) to: OW-Docket@epa.gov, Attention Docket ID No. OW-2003-0079. In contrast to EPA's electronic public docket, EPA's e-mail system is not an “anonymous access” system. If you send an e-mail scientific view directly to the Docket without going through EPA's electronic public docket, EPA's e-mail system automatically captures your e-mail address. E-mail addresses that are automatically captured by EPA's e-mail system are included as part of the scientific views that are placed in the official public docket, and made available in EPA's electronic public docket.

iii. Disk or CD-ROM. You may submit scientific views on a disk or CD-ROM that you mail to the mailing address identified in section I.C.2. These electronic submissions will be accepted in WordPerfect, or ASCII file format. Avoid the use of special characters and any form of encryption.

2. By Mail. Send an original and three copies of all scientific views, enclosures, or references, to the Water Docket, Environmental Protection Agency, Mailcode MC-4101T, 1200 Pennsylvania Avenue, NW., Washington, DC 20460, Attention Docket ID No. OW-2003-0079.

3. By Hand Delivery or Courier. Deliver your scientific views to: EPA Docket Center, (EPA/DC) EPA West, Room B102, 1301 Constitution Ave., NW., Washington, DC, Attention Docket ID No. OW-2003-0079. Such deliveries are only accepted during the Docket's normal hours of operation as identified in section I.B.1.

D. What Should I Consider as I Prepare My Scientific Views for EPA?

You may find these suggestions helpful for preparing your scientific views:

1. Explain your scientific views as clearly as possible.

2. Describe any assumptions that you used.

3. Provide any technical information and/or data you used that support your scientific views.

4. Provide specific examples to illustrate your concerns.

5. Offer alternatives.

6. Make sure to submit your scientific views by the time period deadline identified.

7. To ensure proper receipt by EPA, identify the appropriate docket identification number in the subject line on the first page of your response. It would also be helpful if you provided the name, date, and Federal Register citation related to your views.

II. What Are Water Quality Criteria?

Water quality criteria are scientifically-derived concentrations of a pollutant that protect aquatic life or human health from the harmful effects of pollutants in ambient water. Section 304(a)(1) of the Clean Water Act requires EPA to develop and publish and, from time to time, revise criteria for water quality to accurately reflect the latest scientific knowledge. Water quality criteria developed under section 304(a) are based solely on data and scientific judgments on the relationship between pollutant concentrations and environmental and human health effects. Section 304(a) criteria do not consider economic impacts or the technological feasibility of meeting the chemical concentrations in ambient water. Section 304(a) criteria help States and authorized Tribes adopt water quality standards that ultimately provide a basis for controlling discharges or releases of pollutants. The criteria also help EPA promulgate federal regulations under section 303(c) when such action is necessary.

Once established, an EPA water quality criterion does not substitute for the CWA or EPA regulations; nor is it a regulation. It cannot impose legally binding requirements on the EPA, States, authorized Tribes or the regulated community. State and Tribal decision-makers have the discretion to adopt approaches that differ from EPA's guidance on a case-by-case basis.

III. How Did EPA Involve the Public in the Criteria Update Process?

EPA solicited the public for data and information that would be useful in updating its copper criteria in the1999 Federal Register notice titled, Notice of Intent To Revise Aquatic Life Criteria for Copper, Silver, Lead, Cadmium, Iron and Selenium; Notice of Intent To Develop Aquatic Life Criteria for Atrazine, Diazinon, Nonylphenol, Methyl Tertiary-Butyl Ether (MtBE), Manganese and Saltwater Dissolved Oxygen (Cape Cod to Cape Hatteras); Notice of Data Availability; Request for Data and Information (64 FR 58409, October 29, 1999). In this notice, EPA also notified the public that it was assessing the use of the biotic ligand model for updating its copper criteria.

IV. What's New About the Updated Criteria?

The draft aquatic life criteria document, titled 2003 Draft Update of Ambient Water Quality Criteria for Copper (EPA-822-R-03-026), contains updated freshwater and saltwater aquatic life criteria for copper. These criteria revisions are based in part on new data that have become available since EPA's last comprehensive criteria updates for copper: (Ambient Water Quality Criteria for Copper—1985 (EPA 440/5-84-031) and Ambient Water Quality Criteria Saltwater Copper Addendum (April 14, 1995)). We derived both the freshwater and saltwater criteria recommendations presented in this draft document based on the principles set forth in EPA's 1985 Guidelines for Deriving Numerical National Aquatic Life Criteria for Protection of Aquatic Organisms and Their Uses. In addition to incorporating new data, the freshwater criterion maximum concentration (CMC or “acute criterion”) also uses the biotic ligand model (BLM) in the criteria derivation procedures. The freshwater criterion continuous concentration (CCC or “chronic criterion”) is based on a BLM-derived acute value divided by a final acute-chronic ratio.

V. How Do BLM-Derived Criteria Differ From Hardness-Dependent Criteria?

The biotic ligand model is a metal bioavailability model based on the latest information about chemical and physiological effects of metals in aquatic environments. Earlier freshwater aquatic life criteria for copper published by the Agency were based on empirical relationships of toxicity to water hardness. That is, a relationship was established linking the criteria concentrations with water hardness. These hardness-dependent criteria, however, represented combined effects of different water quality variables (such as pH and alkalinity) correlated with hardness. Unlike the empirically derived hardness-dependent criteria, the BLM explicitly accounts for individual water quality variables and addresses variables that were not factored into the hardness relationship. Where the previous freshwater aquatic life criteria were hardness-dependent, these updated criteria are dependent on a number of water quality parameters (e.g., calcium, magnesium, dissolved organic carbon) described in the document.

You can find more detailed information on the development and application of the biotic ligand model in the criteria document as well as in Draft Biotic Ligand Model: Technical Support Document for Its Application to the Evaluation of Water Quality Criteria for Copper (EPA 822-R-03-027) and Integrated Approach to Assessing the Bioavailability and Toxicity of Metals in Surface Waters and Sediments (EPA-822-E-99-001).

VI. What Are the Updated Criteria?

The procedures described in the Guidelines for Deriving Numerical National Water Quality Criteria for the Protection of Aquatic Organisms and Their Uses indicate that, except where a locally important species is very sensitive, freshwater aquatic organisms and their uses should not be affected unacceptably if:

• The 4-day average concentration of dissolved copper does not exceed the BLM-derived site-water LC50 (i.e., Final Acute Value (FAV)) divided by the final acute-chronic ratio more than once every 3 years on the average (i.e., the CCC) and if:

• The 24-hour average dissolved copper concentration does not exceed the BLM-derived site-LC50 (or FAV) divided by two, more than once every 3 years on the average (i.e., the CMC).

The procedures described in the Guidelines for Deriving Numerical National Water Quality Criteria for the Protection of Aquatic Organisms and Their Uses indicate that, except where a locally important species is very sensitive, saltwater aquatic organisms and their uses should not be affected unacceptably if:

• The 4-day average concentration of dissolved copper does not exceed 1.9 ug/L more than once every 3 years on the average (i.e., the CCC) and if:

• The 24-hour average dissolved copper concentration does not exceed 3.1 ug/L more than once every 3 years on the average (i.e., the CMC).

VII. What Specific Questions of Science Does EPA Want Views on?

Though the public is welcome to submit scientific views on any component of the copper aquatic life criteria document, EPA is specifically interested in scientific views on the following issues of science:

• The freshwater criteria presented in this document were developed utilizing the biotic ligand model (BLM). Are the procedures used to incorporate the model apt? Is the establishment of the chronic criterion through the BLM-calculated FAV and the assigned acute-chronic-ratio (ACR) appropriate?

• Measurements were not available for all input parameters, for all studies used to derive the criteria. In some cases therefore, input parameters were estimated. A detailed description of the methods used to estimate these missing parameters is included in the updated draft copper criteria document's Appendix, Estimation of Water Chemistry Parameters for Acute Copper Toxicity Tests. Are the estimation procedures for the parameters appropriate or could other methods be used to improve the estimations?

• To calculate the saltwater final chronic value (FCV) the Mytilus spp. species mean acute value (SMAV) was divided by a final acute-chronic ratio (FACR) derived from both freshwater and saltwater species, implying that a “5th percentile” ACR was applicable for use in conjunction with the M. spp.-FAV. Submit scientific views on the appropriateness of this calculation procedure.

VIII. What Is the Relationship Between the Water Quality Criteria and Your State or Tribal Water Quality Standards?

Section 303(c)(1) requires States and authorized Tribes to review and modify, if appropriate, their water quality standards at least once every three years. Water quality standards consist of designated uses, water quality criteria to protect those uses, a policy for antidegradation, and general policies for application and implementation.

States and authorized Tribes must adopt water quality criteria that protect designated uses. Protective criteria, based on a sound scientific rationale, contain appropriate factors to protect the designated uses. Criteria may be either narrative or numeric. States and authorized Tribes have four options when adopting water quality criteria for which EPA has published section 304(a) criteria. They can:

(1) Establish numerical values based on recommended section 304(a) criteria;

(2) Adopt section 304(a) criteria, modified to reflect site-specific conditions;

(3) Adopt criteria derived using other scientifically defensible methods; or

(4) Establish narrative criteria where numeric criteria cannot be determined (40 CFR 131.11).

Consistent with 40 CFR 131.21 (see: EPA Review and Approval of State and Tribal Water Quality Standards (65 FR 24641, April 27, 2000)), water quality criteria that States and authorized Tribes adopted before May 30, 2000, are in effect for CWA purposes unless Federal regulations superseded them (see, for example, the National Toxics Rule, 40 CFR 131.36; Water Quality Standards for Idaho, 40 CFR 131.33). New or revised water quality criteria that States and authorized Tribes adopted into law or regulation on or after May 30, 2000, are in effect for CWA purposes only after EPA approves them.

IX. What Is the Status of Existing Recommended Criteria While They Are Being Revised?

Water quality criteria published by EPA are the Agency's recommended water quality criteria until EPA revises or withdraws the criteria. EPA supports using the current section 304(a) criteria for those chemicals for which criteria are being updated and considers them to be scientifically sound until the Agency publishes revised 304(a) criteria.

Dated: December 22, 2003.
G. Tracy Mehan III,
Assistant Administrator, Office of Water.

[FR Doc. 03-32209 Filed 12-30-03; 8:45 am]

BILLING CODE 6560-50-P